DEPARTMENT OF ENERGY

National Coal Council

AGENCY: Department of Energy, Office of Fossil Energy.

ACTION: Notice of open meeting.

SUMMARY: This notice announces a meeting of the National Coal Council (NCC). Federal Advisory Committee Act (Pub. L. 92-463, 86 Stat. 770) requires notice of these meetings be announced in the Federal Register.

DATES: May 15, 2009, 9 a.m.-12 noon.

ADDRESSES: The Fairmont Hotel, 2401 M Street, NW., Washington, DC.

FOR FURTHER INFORMATION CONTACT: Robert Kane, Phone (202) 586-4753, U.S. Department of Energy, Office of Fossil Energy, Washington, DC 20585.

SUPPLEMENTARY INFORMATION: Purpose of the Committee: The purpose of the National Coal Council is to provide advice, information, and recommendations to the Secretary of Energy on matters related to coal and coal industry issues. The agenda for this meeting is summarized below:

○ Welcome and call to order by NCC Chair Michael Mueller

○ Remarks by Secretary of Energy, Steven Chu

○ Council Business:

Finance report by committee Chairman Joe Hopf

Secretary's report by NCC Secretary Larry Grimes

○ Presentation by Yusuo Wang, Chairman and Director of XinAo Group Company Limited, on the coal industry in China.

○ Presentation by Brent Constants/John Brewster of Calera Corporation, on CO2 use in the making of cement.

○ Presentation by Robert Beck of The National Coal Council, providing an update on NCC activities.

○ Other Business

○ Adjourn

Public Participation: The meeting is open to the public. The Chairman of the NCC will conduct the meeting to facilitate the orderly conduct of business. If you would like to file a written statement with the Committee, you may do so before or after the meeting. If you would like to make oral statements regarding any of the items on the agenda, you should contact Mr. Robert Kane at the address or telephone number listed above. You must make your request for an oral statement at least five business days prior to the meeting, and reasonable provisions will be made to include the presentation on the agenda. Public comment will follow the 10 minute rule.

Transcripts: The transcript will be available for public review and copying within 30 days at the Freedom of Information Public Reading Room, 1G-033, Forrestal Building, 1000 Independence Avenue, SW., Washington, DC, between 9 a.m. and 4 p.m., Monday through Friday, except Federal holidays.

Issued in Washington, DC on April 20, 2009.
Rachel Samuel,
Deputy Committee Management Officer.

[FR Doc. E9-9428 Filed 4-23-09; 8:45 am]

BILLING CODE 6450-01-P